ENVIRONMENTAL PROTECTION AGENCY

[EPA-HQ-OAR-2020-0626; FRL-9492-01-OMS]

Information Collection Request Submitted to OMB for Review and Approval; Comment Request; NSPS for Metal Furniture Coating (Renewal)

AGENCY: Environmental Protection Agency (EPA).

ACTION: Notice.

SUMMARY: The Environmental Protection Agency has submitted an information collection request (ICR), “NSPS for Metal Furniture Coating” (EPA ICR Number 0649.14, OMB Control Number 2060-0106), to the Office of Management and Budget (OMB) for review and approval in accordance with the Paperwork Reduction Act. This is a proposed extension of the ICR, which is currently approved through March 31, 2022. Public comments were previously requested, via the Federal Register, on February 8, 2021 during a 60-day comment period. This notice allows for an additional 30 days for public comments. A fuller description of the ICR is given below, including its estimated burden and cost to the public. An agency may neither conduct nor sponsor, and a person is not required to respond to, a collection of information unless it displays a currently valid OMB control number.

DATES: Additional comments may be submitted on or before February 25, 2022.

ADDRESSES: Submit your comments, referencing Docket ID Number EPA-HQ-OAR-2020-0626, online using www.regulations.gov (our preferred method) or by mail to: EPA Docket Center, Environmental Protection Agency, Mail Code 28221T, 1200 Pennsylvania Ave. NW, Washington, DC 20460.

EPA's policy is that all comments received will be included in the public docket without change including any personal information provided, unless the comment includes profanity, threats, information claimed to be Confidential Business Information (CBI), or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Muntasir Ali, Sector Policies and Program Division (D243-05), Office of Air Quality Planning and Standards, U.S. Environmental Protection Agency, Research Triangle Park, North Carolina 27711; telephone number: (919) 541-0833; email address: ali.muntasir@epa.gov.

SUPPLEMENTARY INFORMATION: Supporting documents, which explain in detail the information that the EPA will be collecting, are available in the public docket for this ICR. The docket can be viewed online at https://www.regulations.gov, or in person, at the EPA Docket Center, WJC West Building, Room 3334, 1301 Constitution Ave. NW, Washington, DC. The telephone number for the Docket Center is 202-566-1744. For additional information about EPA's public docket, visit http://www.epa.gov/dockets.

Abstract: The New Source Performance Standards (NSPS) for Metal Furniture Coating were proposed on November 28, 1980; promulgated on October 29, 1982; and most-recently revised on October 17, 2000. These regulations apply to each metal furniture surface coating operation in which organic coatings are applied (greater than 3,842 liters of coating per year), commencing construction, modification, or reconstruction after November 28, 1980. In general, all NSPS standards require initial notifications, performance tests, and periodic reports by the owners/operators of the affected facilities. They are also required to maintain records of the occurrence and duration of any startup, shutdown, or malfunction in the operation of an affected facility, or any period during which the monitoring system is inoperative. This information is being collected to assure compliance with 40 CFR part 60, subpart EE.

Form Numbers: None.

Respondents/affected entities: Metal furniture surface coating operations.

Respondent's obligation to respond: Mandatory (40 CFR part 60, subpart EE).

Estimated number of respondents: 42 (total).

Frequency of response: Initially, occasionally, quarterly and semiannually.

Total estimated burden: 5,940 hours (per year). Burden is defined at 5 CFR 1320.3(b).

Total estimated cost: $791,000 (per year), which includes $88,200 in annualized capital/startup and/or operation & maintenance costs.

Changes in the Estimates: There is an adjustment decrease in the total estimated burden from the most-recently approved ICR. This decrease is not due to any program changes. The adjustment decrease in burden from the most-recently approved ICR is due to a decrease in the number of sources. The number of respondents has been adjusted downwards from the most-recently approved ICR to reflect a more accurate estimate of subject sources, based on data collected through EPA's Enforcement and Compliance History Online (ECHO) database and a review of metal furniture facilities subject to other federal regulations. The decrease in the number of respondents also results in a decrease in the operation and maintenance costs. There are no new respondents anticipated in the next three years, therefore, there are no capital costs.

Courtney Kerwin,
Director, Regulatory Support Division.

[FR Doc. 2022-01456 Filed 1-25-22; 8:45 am]

BILLING CODE 6560-50-P